SOCIAL SECURITY ADMINISTRATION

Agency Information Collection Activities: Emergency Request

The Social Security Administration (SSA) publishes a list of information collection packages requiring clearance by the Office of Management and Budget (OMB) in compliance with Public Law (Pub. L.) 104-13, the Paperwork Reduction Act of 1995, effective October 1, 1995. This notice includes a new form for which we are requesting emergency OMB clearance.

SSA is soliciting comments on the accuracy of the agency's burden estimate; the need for the information; its practical utility; ways to enhance its quality, utility, and clarity; and ways to minimize burden on respondents, including the use of automated collection techniques or other forms of information technology. Mail, e-mail, or fax your comments and recommendations on the information collection to the OMB Desk Officer and the SSA Reports Clearance Officer to the following addresses or fax numbers.

(OMB) Office of Management and Budget, Attn: Desk Officer for SSA, Fax: 202-395-6974, E-mail address: OIRA_Submission@omb.eop.gov.

(SSA) Social Security Administration, DCBFM, Attn: Reports Clearance Officer, 1340 Annex Building, 6401 Security Blvd., Baltimore, MD 21235, Fax: 410-965-8783, E-mail address: OPLM.RCO@ssa.gov.

SSA submitted the information collection below to OMB for Emergency Clearance. SSA is requesting Emergency Clearance from OMB no later than March 1, 2010. Individuals can obtain copies of the collection instrument by calling the SSA Reports Clearance Officer or by writing to the above e-mail address.

Request for Accommodation in Communication Method—0960-NEW.

Background

In a recent legal action, American Council of the Blind, et al. v. Michael Astrue and Social Security Administration (No. C 05-04696 WHA (N.D. Cal.)), class plaintiffs representing blind or visually impaired Social Security applicants, beneficiaries, recipients, and representative payees challenged the adequacy of the modes of communication used by SSA in its notices and other communications. Prior to the district court's order of October 20, 2009, in American Council of the Blind, SSA had offered three modes of communications for blind and visually impaired Social Security beneficiaries: (1) A standard print notice by first-class mail; (2) a standard print notice by first-class mail with a follow-up telephone call; and (3) certified mail. In American Council of the Blind, the district court required SSA to begin offering two new modes of communication to blind or visually impaired applicants, beneficiaries, recipients, and representative payees: Braille and Microsoft Word files (on data compact discs).

Current Information Collection

In accordance with the court order, beginning January 1, 2010, affected parties can call a designated SSA number and tell the agency which of the following five methods of communication they want the agency to use for their notices and other communications: (1) Standard print notice by first-class mail, (2) standard print mail with a follow-up telephone call, (3) certified mail, (4) Braille, or (5) Microsoft Word. This call did not require OMB clearance.

However, there may be respondents who want SSA to use another communication method. SSA has created form SSA-9000, the Request for Accommodation in Communication Method, for these situations. This form will ask respondents to describe the type of accommodation they want, to disclose the condition they have that necessitates the need for a different type of accommodation, and to explain why none of the five methods described above are sufficient for their needs.

Since we must make this form available shortly due to court-ordered deadlines, we are requesting emergency clearance. The respondents are Social Security applicants, beneficiaries, recipients, and representative payees who are blind or visually impaired and are asking SSA to send them notices and other communications in an alternative method besides the five modalities described in this Notice.

Type of Request: Emergency clearance of a new information collection.

Method of information collection | Number of respondents | Response time (minutes) | Burden (hours)
Personal interview (over the phone or in-person) | 2,000 | 10 | 333
Form (taken or mailed from field office) | 500 | 15 | 125
| 2,500 |  | 458

Dated: February 16, 2010.
Faye Lipsky,
Acting Reports Clearance Officer, Social Security Administration.

[FR Doc. 2010-3304 Filed 2-19-10; 8:45 am]

BILLING CODE 4191-02-P